DEPARTMENT OF COMMERCE

National Oceanic and Atmospheric Administration

RIN 0648-XC987

North Pacific Fishery Management Council; Public Meeting

AGENCY: National Marine Fisheries Service (NMFS), National Oceanic and Atmospheric Administration (NOAA), Commerce.

ACTION: Notice of a conference call of the North Pacific Fishery Management Council's Scallop Plan Team.

SUMMARY: The Scallop Plan Team (SPT) will hold a teleconference (907-271-2896). You can listen at the Council office in room 205.

DATES: The teleconference will be held on December 3, 2013, from 9 a.m. to 12 p.m.

ADDRESSES: The teleconference will be held at the Old Federal Building, 605 W 4th Avenue, Room 205, Anchorage, AK.

Council address: North Pacific Fishery Management Council, 605 W. 4th Ave., Suite 306, Anchorage, AK 99501-2252.

FOR FURTHER INFORMATION CONTACT: Diana Stram, Council staff, telephone: (907) 271-2809.

SUPPLEMENTARY INFORMATION:

Agenda: The SPT will review and comment on proposed State of Alaska state waters scallop FMP.

Special Accommodations

The meeting is physically accessible to people with disabilities. Requests for sign language interpretation or other auxiliary aids should be directed to Gail Bendixen at (907) 271-2809 at least 7 working days prior to the meeting date.

Dated: November 14, 2013.
Tracey L. Thompson,
Acting Deputy Director, Office of Sustainable Fisheries, National Marine Fisheries Service.

[FR Doc. 2013-27711 Filed 11-19-13; 8:45 am]

BILLING CODE 3510-22-P